SECURITIES AND EXCHANGE COMMISSION

[Release No. 34-80762; File No. SR-DTC-2017-007]

Self-Regulatory Organizations; The Depository Trust Company; Notice of Filing and Immediate Effectiveness of a Proposed Rule Change To Modify the DTC Settlement Service Guide To Make Technical Revisions To Clarify and Provide Enhanced Transparency With Respect to the Calculation and Adjustment of Required Participants Fund Deposits

May 24, 2017.

Correction

In notice document 2017-11151, beginning on page 25038, in the issue of Wednesday, May 31, 2017, make the following correction:

1. On page 25041, in the first column, in the last sentence, “June 20, 2017” should read “June 21, 2017”.

[FR Doc. C1-2017-11151 Filed 6-13-17; 8:45 am]

BILLING CODE 1301-01-D